DEPARTMENT OF TRANSPORTATION

Office of the Secretary

[Docket No. DOT-OST-2022-0014]

Air Travel by Persons Who Use Wheelchairs; Notice of Public Meeting

AGENCY: Office of the Secretary (OST), Department of Transportation (DOT).

ACTION: Notice of public meeting.

SUMMARY: This notice announces a public meeting of the U.S. Department of Transportation (Department or DOT), to be held virtually, on the difficulties encountered during air travel by persons who use wheelchairs.

DATES: The virtual meeting will be held on Thursday, March 24, 2022, from 10:15 a.m. to 5:30 p.m., Eastern Daylight Time. The meeting is open to the public, subject to any technical and/or capacity limitations. Requests to attend the meeting must be submitted to https://usdot.zoomgov.com/webinar/register/WN_cWNvnWKRQ26J4X0sbJClrw. We encourage interested parties to register by Monday, March 21, 2022. Communication Access Real-time Translation (CART) and sign language interpretation will be provided during the meeting. Requests for additional accommodations because of a disability must be received at FlyingWithWheelchairs@dot.gov by March 21, 2022. If you wish to speak during the meeting or have written materials you submit discussed during the meeting, you should submit a request at FlyingWithWheelchairs@dot.gov no later than March 21, 2022.

ADDRESSES: The virtual meeting will be open to the public and held via the Zoom Webinar Platform. Virtual attendance information will be provided upon registration. A detailed agenda will be available on the Department's Office of Aviation Consumer Protection website at https://www.transportation.gov/airconsumer/latest-news and placed in the docket in advance of the meeting.

FOR FURTHER INFORMATION CONTACT: To register and attend this virtual meeting, please contact the Department at: https://usdot.zoomgov.com/webinar/register/WN_cWNvnWKRQ26J4X0sbJClrw. Attendance is open to the public subject to any technical and/or capacity limitations. For further information, please contact Chris Miller, Attorney-Advisor, by phone at 202-366-4781, or by email at Christopher.miller1@dot.gov.

SUPPLEMENTARY INFORMATION:

I. Background

Air travelers with disabilities who use wheelchairs often face serious problems when traveling that could impact their safety, including mishandled wheelchairs and scooters and improper transfers to and from aircraft seats. Since December 2018, the largest U.S. airlines have collectively mishandled more than one in every one-hundred wheelchairs they transported.¹ Damaged, delayed and lost wheelchairs affect the mobility, independence, quality of life and, at times, health of people with disabilities. The Department is committed to improving the accessibility of air transportation for people with disabilities and is actively seeking information from the public to determine what appropriate steps can be taken to improve accessibility for wheelchair users.

¹ Pursuant to 14 CFR part 234, U.S. airlines classified as “reporting carriers” are required to report to the Department monthly data on the number of wheelchairs and scooters they transport in the aircraft cargo compartment and the number of wheelchairs and scooters that are mishandled (i.e., damaged, delayed, lost, or pilfered). This reporting requirement has applied to reporting carriers for their operations on and after December 4, 2018. In addition, reporting carriers have been required to report for the operations of their branded codeshare partners on and after January 1, 2019. Mishandled wheelchair and scooter data are published monthly in the Department's Air Travel Consumer Report (ATCR) along with information on the number of disability-related complaints that aviation consumers file with the Department against airlines. The ATCRs are available on the Department's aviation consumer protection website at https://www.transportation.gov/individuals/aviation-consumer-protection/air-travel-consumer-reports.

Disability rights advocates have raised concerns with the Department about unsafe transfers to and from aircraft seats. These transfers are the most physically intensive type of assistance provided by airline personnel and contractors. The Department does not have data on the number of transfers or the number of passengers with disabilities injured during the transfer process. While complaints to the Department alleging assistance that jeopardizes the safety of passengers with disabilities are not as common as other types of wheelchair assistance-related complaints, these types of incidents can cause serious harm to passengers. Successful assistance is often dependent on sufficiently trained personnel with adequate strength, skill, knowledge, and available equipment.

Disability rights advocates have also expressed increased dissatisfaction with the level of accessibility during air travel for wheelchair users. On December 16, 2021, during a joint DOT and U.S. Access Board meeting about access to lavatories for on-board wheelchairs on single aisle aircraft, we announced that the Department would host a public meeting on the difficulties facing people who use wheelchairs during air travel. This public meeting will be an important step to tackle these challenges.

During this meeting, there will be an opportunity to listen to and learn from people who use wheelchairs on the difficulties that they encounter during air travel. There will also be an opportunity for airlines to discuss both the actions they are taking to provide accessible air transportation and the challenges they face in making these improvements. The Department will also request and gather relevant information from the public attendees on four different topics (listed below). The information gathered during the meeting will enable the Department to move more expeditiously on actions to advance safe accommodations for air travelers with disabilities using wheelchairs. We specifically invite people with disabilities, disability advocates, airlines, aircraft manufacturers, wheelchair manufacturers, flight attendant associations, and other stakeholders to participate in the public meeting.

II. Announcement of Public Meeting

The March 24, 2022 meeting will be divided into a morning session and an afternoon session. In the morning, beginning at 10:15 a.m. EST, opening remarks and presentations on relevant regulations and the current state of affairs will be provided by the Department, advocates for people with disabilities, industry stakeholders, and the Air Carrier Access Act (ACAA) Advisory Committee. In the afternoon, there will be a question and answer session to help inform appropriate next steps for addressing the concerns of wheelchair users. The Department seeks information on the following:

Questions Relating to Challenges Encountered During Air Travel by Persons Who Use Wheelchairs and the Impacts of Unsafe or Inadequate Assistance

• What are the most significant problems that people with disabilities are currently experiencing when traveling by air with wheelchairs?

• How frequently do people with disabilities who use wheelchairs experience problems when traveling by air and what is the severity of physical harm or damages that can result?

• How do these problems affect the ability or willingness of people with disabilities to travel by air?

• What are the root causes of the problems associated with traveling by air with wheelchairs?

• What are the wait times for assistance to deplane/disembark aircraft for people who use wheelchairs?

• What changes to air travel are needed to address the problems encountered by people with disabilities who use wheelchairs?

Questions Relating to Actions To Prevent or Minimize Likelihood of Mishandled (Damaged, Delayed, and Lost) Wheelchairs

• At what point(s) during the handling process are wheelchairs damaged and what are the most common types of damage?

• What financial costs (medical, transportation, lost wages, etc.), if any, do people who use wheelchairs incur due to damage to their wheelchair during air travel?

• What best practices or procedures (e.g., disassembly or loading techniques) could be implemented by airlines to reduce the risk of damaging a wheelchair?

• What additional information from passengers and device manufacturers would be useful to airlines to aid their employees who handle assistive devices?

• In circumstances where the passenger has not requested the return of the wheelchair at the baggage claim area, what are the wait times for wheelchairs to be returned to passengers at the gate?

• What are the root causes of wheelchairs becoming delayed or lost during air transportation?

• What improvements can be made to airline procedures to prevent or minimize the likelihood that a wheelchair is delayed or lost?

• Does hands-on training for employees who handle mobility aid devices lead to fewer cases of mishandled wheelchairs and, if so, what are the costs and benefits of hands-on training programs?

Questions Relating to Actions To Ensure Safe Transfers to and From the Aircraft Seat

• What problems do passengers who require physical assistance encounter when traveling by air?

• What types of harm can result from inadequate or unsafe physical assistance?

• What financial costs (medical, transportation, lost wages, etc.), if any, do people who use wheelchairs incur due to unsafe physical assistance or other injuries sustained when traveling by air?

• What strategies are airlines or their contractors implementing to ensure transfers to and from the aircraft seat are done safely?

• What new or additional practices or procedures could be implemented by airlines or their contractors to increase safety and reduce risks of harm when physically assisting passengers?

• What are the challenges and limitations associated with the equipment currently used by airlines or their contractors (e.g., aisle chairs)?

• What new technologies or equipment exist that may improve safety for passengers who require physical assistance and for airline personnel, and what are the costs and benefits of implementing such new technologies or equipment?

• What data exist that show the effects of hands-on training for employees who physically assist persons with disabilities on safety, and what are the costs and benefits of hands-on training programs?

Questions Relating to Best Practices for Assisting Passengers When a Wheelchair Has Been Mishandled

• When a wheelchair has been mishandled, what resources or equipment are necessary to timely and safely assist the passenger at the airport?

• What types of wheelchairs are currently made available for passengers to temporarily use at the airport when their wheelchairs are mishandled and unavailable for use?

• How do airlines train frontline employees to address the needs of passengers whose wheelchairs were mishandled?

• What physical harm may result to people with disabilities when they cannot access their wheelchairs, and what measures can be implemented to prevent or reduce such harm?

• Do airlines have wheelchair repair/rental vendors that can assist with obtaining loaner chairs and with customized features and, if so, what are the associated costs?

• What improvements could be made to the damage claim, repair, and return process so that wheelchairs can be quickly returned or replaced?

Requests to make oral comments during the meeting or submit written materials to be reviewed during the meeting should be sent to FlyingWithWheelchairs@dot.gov no later than March 21, 2022. When making advance requests for oral comments, please identify which of the four topics identified above you wish to address. If there is an interest in addressing a topic not identified above but related to travel by individuals with disabilities who use wheelchairs, please identify that topic in your request. If time allows, questions or comments by those who did not make an advance request for oral comments will also be permitted. Participants may also submit comments or questions through Zoom's Chat feature to be addressed during the meeting as time permits.

III. Viewing Documents

You may view documents associated with this meeting at https://www.regulations.gov. After entering the docket number (DOT-OST-2022-0014), click the link to “Open Docket Folder” and choose the document to review.

Issued in Washington, DC, this 10th day of March 2022.
John E. Putnam,
Deputy General Counsel, U.S. Department of Transportation.

[FR Doc. 2022-05422 Filed 3-14-22; 8:45 am]

BILLING CODE P